DEPARTMENT OF HOUSING AND URBAN DEVELOPMENT

[Docket No. FR-5415-N-04]

Announcement of Funding Awards for Fiscal Year 2010 Historically Black Colleges and Universities Program

AGENCY: Office of the Assistant Secretary for Policy Development and Research, HUD.

ACTION: Announcement of funding awards.

SUMMARY: In accordance with section 102(a)(4)(C) of the Department of Housing and Urban Development Reform Act of 1989, this document notifies the public of funding awards for Fiscal Year (FY) 2010 Historically Black Colleges and Universities Program. The purpose of this document is to announce the names, addresses and the amount awarded to the winners to be used to help Historically Black Colleges and Universities (HBCUs) expand their role and effectiveness in addressing community development needs in their localities, consistent with the purposes of Title I of the Housing and Development Act of 1974, as amended.

FOR FURTHER INFORMATION CONTACT: Susan Brunson, Office of University Partnerships, U.S. Department of Housing and Urban Development, Room 8226, 451 Seventh Street, SW., Washington, DC 20410, telephone (202) 402-3852. To provide service for persons who are hearing-or-speech-impaired, this number may be reached via TTY by Dialing the Federal Information Relay Service on 800-877-8339 or 202-708-1455. (Telephone number, other than “800” TTY numbers are not toll free).

SUPPLEMENTARY INFORMATION: The Historically Black Colleges and Universities Program was approved by the Consolidated Appropriations Act, 2010 (Pub. L. 111-117, approved December 16, 2009) and is administered by the Office of University Partnerships under the Office of the Assistant Secretary for Policy Development and Research. In addition to this program, the Office of University Partnerships administers HUD's ongoing grant programs to institutions of higher education as well as creates initiatives through which colleges and universities can bring their traditional missions of teaching, research, service, and outreach to bear on the pressing local problems in their communities.

The HBCU Program provides funds for a wide range of CDBG eligible activities including housing rehabilitation, property demolition or acquisition, public facilities, economic development, business entrepreneurship, a wide range of public service activities, and fair housing programs.

The Catalog of Federal Domestic Assistance number for this program is 14.520.

On July 16, 2010, a Notice of Funding Availability (NOFA) was posted on Grants.gov announcing the availability of approximately $9.7 million to fund HBCU grants. Under this program, HUD awarded two kinds of grants: Previously Unfunded HBCU Grants and Previously Funded HBCU Grants. Previously Unfunded HBCU Grants were awarded to applicants who have never received an HBCU grant or have not received a grant since FY 2000. The maximum amount a Previously Unfunded HBCU applicant could request for award is $500,000 for a three-year (36 months) grant performance period. Previously Funded HBCU Grants were awarded to applicants that had received funding between FY 2001 through FY 2009. The maximum amount a Previously Funded HBCU applicant could request for award is $800,000 for three-year (36 months) grant performance period.

The Department reviewed, evaluated, and scored the applications received based on the criteria in the NOFA. As a result, HUD has funded the applications below, in accordance with section 102(a)(4)(C) of the Department of Housing and Urban Development Reform Act of 1989 (103 Stat. 1987, 42 U.S.C. 3545). More information about the winners can be found at http://www.oup.org.

List of Awardees for Grant Assistance Under the FY 2010 Historically Black Colleges and Universities Program Funding Competition, by Institution, Address, and Grant Amount

Region IV

1. Winston-Salem State University, Ms. Valerie Howard, Winston Salem State University, 601 South Martin Luther King, Jr. Drive, Winston Salem, NC 27110. Grant: $800,000.

2. Benedict College, Dr. David Swinton, Benedict College, 1600 Harden Street, Columbia, SC, 29204-1086. Grant: $800,000.

3. Voorhees College, Mr. Willie Owens, Voorhees College, P.O. Box 678, 422 Beech Avenue, Denmark, SC 29042. Grant: $800,000.

4. North Carolina Agricultural and Technical State University, Dr. Celestine Ntuen, North Carolina Agricultural and Technical State University, 1601 East Market Street, Greensboro, NC 27411. Grant: $800,000.

5. St. Augustine's College, Ms. Tammalyn Thomas-Golden, St. Augustine's College, 1315 Oakwood Avenue, Raleigh, NC 27610. Grant: $498,682.

6. Fayetteville State University, Ms. Emily Dickens, Fayetteville State University, 1200 Murchison Road, Fayetteville, NC 28301. Grant: $499,602.

7. Tuskegee University, Ms. Danette Hall, Tuskegee University, 301 Kresge Center, Tuskegee, AL 36088. Grant: $800,000.

Region VI

8. Southern University and A&M College, Dr. Alma Thorton, Southern University and A&M College, P.O. Box 12596, Baton Rouge, LA 70813. Grant: $800,000.

9. University of Arkansas at Pine Bluff, Mr. Henry Golatt, University of Arkansas at Pine Bluff, 1200 North University Drive, Mail Slot 4934, Pine Bluff, AR 71601. Grant: $800,000.

Region VII

10. Langston University, Ms. Linda Tillman, Langston University, 4205 North Lincoln Blvd., Oklahoma City, OK 73105. Grant: $800,000.

Dated: September 20, 2010.
Raphael W. Bostic,
Assistant Secretary for Policy Development and Research.

[FR Doc. 2010-24618 Filed 9-30-10; 8:45 am]

BILLING CODE 4210-67-P